SOCIAL SECURITY ADMINISTRATION

Agency Information Collection Activities: Emergency Request

The Social Security Administration (SSA) publishes a list of information collection packages that will require clearance by the Office of Management and Budget (OMB) in compliance with Pub. L. 104-13 effective October 1, 1995, the Paperwork Reduction Act of 1995.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be sent to the individuals listed below:

(OMB),Office of Management and Budget,Attn: Desk Officer for SSA,Fax: 202-395-6974.

(SSA),Social Security Administration, DCFAM,Attn: Reports Clearance Officer,1338 Annex Bldg.,6401 Security Blvd.,Baltimore, MD 21235,Fax: 410-965-6400.

SSA has submitted the information collection listed below for emergency consideration by OMB. SSA has requested OMB approval within 28 days from the date of this notice. Therefore, your comments will be most useful if received before the 28 days conclude. You can obtain copies of the OMB clearance package by calling the SSA Reports Clearance Officer at 410-965-0454, or by writing to the address listed above.

Survey of Adults To Determine Public Understanding of Social Security Programs—0960-0612

As required by section 2(b) of the Government Performance and Results Act (GPRA), which provides that Agencies establish the means for measuring their progress in achieving agency-level goals, SSA established the Public Understanding Measurement System (PUMS) in 1998 as a tool for measuring its performance in meeting its strategic objectives in the area of public knowledge about and understanding of the Social Security program. The instrument used in PUMS is a national phone survey of adult Americans (age 18 and over) which will be conducted annually for SSA by a professional polling organization.

SSA has recently put in place a new strategic plan and established a new strategic performance objective, “the percent of adult Americans who are knowledgeable about the current Social Security program and related issues, including long-range financing.” In line with the new plan, SSA is revising its public education program to include information about Social Security issues such as program solvency. SSA is also adjusting its PUMS process to collect baseline (initial) data on this revised measure. Once this baseline data is collected, SSA will set a strategic performance goal with yearly performance targets as required by the GPRA.

The survey instrument is designed to collect baseline knowledge data at the national level via 1,400 national surveys. Additionally, the survey is designed to assure a valid baseline knowledge measure for key populations toward which SSA has significant targeted education and outreach programs—African Americans, Hispanic Americans, and Asian Americans. This data is a crucial step in making SSA more focused and effective in its communication programs.

Without the data provided by the PUMS survey process, SSA would lack the capability to measure the actual level of public knowledge by which its performance is measured and would lack data to design effective public education programs in support of its strategic plan. The respondents will be randomly selected adults residing in the United States.

Type of Request: Reinstatement with change of an information collection.

Number of Respondents: 1400.

Frequency of Response: 1.

Average Burden Per Response: 15 minutes.

Estimated Annual Burden: 350 hours.

Dated: June 16, 2003.
Elizabeth A. Davidson,
Reports Clearance Officer, Social Security Administration.

[FR Doc. 03-15533 Filed 6-18-03; 8:45 am]

BILLING CODE 4191-02-P